DEPARTMENT OF COMMERCE

International Trade Administration

Renewable Energy and Energy Efficiency Executive Business Development Mission; Clarification and Amendment

AGENCY: International Trade Administration, Department of Commerce.

ACTION: Notice.

SUMMARY: The United States Department of Commerce, International Trade Administration, U.S. and Foreign Commercial Service (CS) is publishing this supplement to the Notice of the Renewable Energy and Energy Efficiency Executive Business Development Mission, 76 FR, No. 140, July 21, 2011, to clarify eligibility and amend the Notice to revise the dates and provide for selection of applicants on a rolling basis.

SUPPLEMENTARY INFORMATION:

Amendments To Revise the Dates and Provide for Selection of Applicants on a Rolling Basis

Background

Recruitment for this Mission began at the end of June, and some pending applicants have indicated a need to finalize their schedules and travel arrangements for upcoming holidays and end of fiscal 2011 year financial reports. Rather than wait until after the October 17, 2011 deadline to vet all applicants and make selection decisions, CS is amending the Notice to allow for vetting and selection decisions on a rolling basis beginning September 1, 2011, until the maximum of 20 participants is selected. Although applications will be accepted through October 17th (and after that date if space remains and scheduling constraints permit), interested U.S. renewable energy firms and trade organizations which have not already submitted an application are encouraged to do so as soon as possible.

Amendments

1. For the reasons stated above, the Timeframe for Recruitment and Applications section of the Notice of the Renewable Energy and Energy Efficiency Executive Business Development Mission, 76 FR, No. 140, July 21, 2011, is amended to read as follows:

Timeframe for Recruitment and Applications

Mission recruitment will be conducted in an open and public manner, including publication in the Federal Register, posting on the Commerce Department trade mission calendar (http://export.gov/trademissions) and other Internet Web sites, press releases to general and trade media, direct mail, notices by industry trade associations and other multiplier groups, and publicity at industry meetings, symposia, conferences, and trade shows. Recruitment for this mission will conclude no later than October 17, 2011. The U.S. Department of Commerce will review applications and make selection decisions on a rolling basis beginning August 31, 2011. We will inform all applicants of selection decisions on a rolling basis. Applications received after the October 17 deadline will be considered only if space and scheduling constraints permit.

FOR FURTHER INFORMATION CONTACT: Michael Lally, Commercial Officer. Phone: 415-705-1765; Fax: 415-705-2299. E-mail: Michael.lally@trade.gov.

Elnora Moye,
Commercial Service Trade Mission Program, U.S. Department of Commerce

[FR Doc. 2011-23893 Filed 9-16-11; 8:45 am]

BILLING CODE 3510-FP-P